DEPARTMENT OF DEFENSE

Office of the Secretary

[Docket No. DoD-2007-HA-0140]

Proposed Collection, Comment Request

AGENCY: Office of the Assistant Secretary of Defense for Health Affairs, DoD.

ACTION: Notice.

In accordance with section 3506(c)(2)(A) of the Paperwork Reduction Act of 1995, the Office of the Assistant Secretary of Defense for Health Affairs announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by February 26, 2008.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection, please write to TRICARE Management Activity—Aurora, Special Contracts and Operations Branch, 16401 E. Centretech Pkwy, Attn: Pamela A. Maloney, Aurora, CO 80011-9066, or telephone Pamela A. Maloney, TRICARE Management Activity, Special Contracts and Operations Branch at (303) 676-3709.

Title; Associated Form; and OMB Number: Mail Order Registration; OMB Control Number 0720-TBD.

Needs and Uses: The information collection requirement is necessary to obtain personal data from TRICARE eligible beneficiaries as application for enrollment into the Department of Defense's TRICARE Mail Order Pharmacy Program.

Affected Public: Individuals or Households.

Annual Burden Hours: 15,000.

Annual Number of Respondents: 60,000.

Responses per Respondent: 1.

Average Burden per Response: 15 minutes.

Frequency: On Occasion.

SUPPLEMENTARY INFORMATION:

Summary of Information Collection

Respondents are active duty members of the armed forces, eligible retirees and their family members who are the recipients of the TRICARE pharmacy benefits. All eligible beneficiaries must complete the registration form in order to enroll into the program. Once the form is completed and signed by the beneficiary; the form is mailed to the TRICARE Mail Order Pharmacy contractor, Express Scripts Inc. The information on the form is logged into a secure database. The form is destroyed after the data is transferred.

Dated: December 7, 2007.
Patricia L. Toppings,
Alternate OSD Federal Register Liaison Officer, Department of Defense.

[FR Doc. E7-25196 Filed 12-27-07; 8:45 am]

BILLING CODE 5001-06-P